DEPARTMENT OF COMMERCE

Foreign-Trade Zones Board

[S-186-2019]

Foreign-Trade Zone 29—Louisville, Kentucky; Application for Subzone Expansion; Hitachi Automotive Systems America, Inc., Harrodsburg, Kentucky

An application has been submitted to the Foreign-Trade Zones Board (the Board) by the Louisville & Jefferson County Riverport Authority, grantee of FTZ 29, requesting an expansion of Subzone 29F on behalf of Hitachi Automotive Systems America, Inc. in Harrodsburg, Kentucky. The application was submitted pursuant to the provisions of the Foreign-Trade Zones Act, as amended (19 U.S.C. 81a-81u), and the regulations of the Board (15 CFR part 400). It was formally docketed on September 19, 2019.

Subzone 29F currently consists of the following sites: Site 1 (50 acres) 955 Warwick Road, Harrodsburg; Site 2 (1.56 acres) 601 Robinson Road, Harrodsburg; Site 3 (1.4 acres) 110 Morgan Soaper Road, Harrodsburg; and, Site 4 (20 acres) 1150 Mayde Road, Berea. The proposed expansion would add 34 acres to existing Site 1. No authorization for additional production activity has been requested at this time. The subzone would be subject to the existing activation limit of FTZ 29.

In accordance with the Board's regulations, Elizabeth Whiteman of the FTZ Staff is designated examiner to review the application and make recommendations to the Executive Secretary.

Public comment is invited from interested parties. Submissions shall be addressed to the Board's Executive Secretary and sent to: ftz@trade.gov. The closing period for their receipt is November 4, 2019. Rebuttal comments in response to material submitted during the foregoing period may be submitted during the subsequent 15-day period to November 19, 2019.

A copy of the application will be available for public inspection in the “Reading Room” section of the Board's website, which is accessible via www.trade.gov/ftz.

For further information, contact Elizabeth Whiteman at Elizabeth.Whiteman@trade.gov or (202) 482-0473.

Dated: September 19, 2019.
Andrew McGilvray,
Executive Secretary.

[FR Doc. 2019-20818 Filed 9-24-19; 8:45 am]

BILLING CODE 3510-DS-P